DEPARTMENT OF ENERGY

Federal Energy Regulatory Commission

[Project No. 14514-003]

Community of Elfin Cove Non Profit Corporation, DBA Elfin Cove Utility Commission; Notice of Application Tendered for Filing With the Commission and Soliciting Additional Study Requests

Take notice that the following hydroelectric application has been filed with the Commission and is available for public inspection.

a. Type of Application: Original minor license.

b. Project No.: P-14514-003.

c. Date filed: August 24, 2020.

d. Applicant: Community of Elfin Cove Non Profit Corporation, DBA Elfin Cove Utility Commission.

e. Name of Project: Crooked Creek and Jim's Lake Hydroelectric Project.

f. Location: On Crooked Creek and Jim's Lake, near the community of Elfin Cove, in the Sitka Recording District, Unorganized Borough, Alaska. The project would occupy 13.98 acres of federal land in the Tongass National Forest, managed by the U.S. Department of Agriculture's Forest Service.

g. Filed Pursuant to: Federal Power Act 16 U.S.C. 791(a)-825(r).

h. Applicant Contact: Mr. Joel Groves, Polarconsult Alaska, Inc., 1503 W 33rd Avenue, #310, Anchorage, Alaska 99503; phone: (907) 258-2420 ext. 204.

i. FERC Contact: John Matkowski at (202) 502-8576; or email at john.matkowski@ferc.gov.

j. Cooperating agencies: Federal, state, local, and tribal agencies with jurisdiction and/or special expertise with respect to environmental issues that wish to cooperate in the preparation of the environmental document should follow the instructions for filing such requests described in item l below. Cooperating agencies should note the Commission's policy that agencies that cooperate in the preparation of the environmental document cannot also intervene. See, 94 FERC ¶ 61,076 (2001).

k. Pursuant to section 4.32(b)(7) of 18 CFR of the Commission's regulations, if any resource agency, Indian Tribe, or person believes that an additional scientific study should be conducted in order to form an adequate factual basis for a complete analysis of the application on its merit, the resource agency, Indian Tribe, or person must file a request for a study with the Commission not later than 60 days from the date of filing of the application, and serve a copy of the request on the applicant.

l. Deadline for filing additional study requests and requests for cooperating agency status: October 23, 2020.

The Commission strongly encourages electronic filing. Please file additional study requests and requests for cooperating agency status using the Commission's eFiling system at http://www.ferc.gov/docs-filing/efiling.asp. For assistance, please contact FERC Online Support at FERCOnlineSupport@ferc.gov, (866) 208-3676 (toll free), or (202) 502-8659 (TTY).

m. The application is not ready for environmental analysis at this time.

n. The proposed project would consist of two developments, the Upper System and the Lower System.

The Upper System development would consist of the following new facilities: (1) A 16-foot-long, 6-foot-diameter intake structure to divert up to five cubic feet per second (cfs) from Crooked Creek; (2) a 1,050-foot-long, 14-inch-diameter buried penstock extending between the intake structure and the powerhouse; (3) a 16-foot-long, 20-foot-wide, 20-foot-high powerhouse containing a 35-kilowatt (kW) crossflow turbine; (4) a tailrace discharging flows into Jim's Lake; and (5) appurtenant facilities.

The Lower System development would consist of the following facilities: (1) 225-foot-long, 18-foot-high rock-fill dam and intake structure at the outlet of Jim's Lake to divert up to 6.5 cfs from Jim's Lake; (2) a 2,550-foot-long, 16 to 18-inch-diameter buried penstock extending between the intake and the powerhouse; (3) 20-foot-long, 28-foot-wide, 14-foot-high powerhouse containing a 105-kW impulse turbine; (4) a tailrace discharging flows into Port Althorp; and (5) appurtenant facilities.

The project would also include an underground 8,800-foot-long, 7.2/12.47-kilovolt (kV) transmission line extending from the project powerhouses at each of the developments to Elfin Cove's existing 7.2/12.47-kV transmission line. The project would generate an average of 788.3 megawatt-hours annually.

o. In addition to publishing the full text of this document in the Federal Register, the Commission provides all interested persons an opportunity to view and/or print the contents via the internet through the Commission's Home Page (http://www.ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (866) 208-3676 or TYY, (202) 502-8659.

You may also register online at http://www.ferc.gov/docs-filing/esubscription.asp to be notified via email of new filings and issuances related to this or other pending projects. For assistance, contact FERC Online Support.

p. Procedural schedule: The application will be processed according to the following preliminary schedule. Revisions to the schedule will be made as appropriate.

Issue Deficiency Letter (if necessary)—November 2020

Request Additional Information—November 2020

Issue Acceptance Letter—February 2021

Issue Scoping Document 1 for comments—March 2021

Request Additional Information (if necessary)—May 2021

Issue Scoping Document 2—June 2021

Issue Notice of Ready for Environmental Analysis—June 2021

Commission issues Environmental Assessment—December 2021

Dated: September 8, 2020.
Kimberly D. Bose,
Secretary.

[FR Doc. 2020-20172 Filed 9-11-20; 8:45 am]

BILLING CODE 6717-01-P